THE NATIONAL FOUNDATION FOR THE ARTS AND THE HUMANITIES

Notice of Proposed Information Collection Requests: Museum Locator Tool

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed information collection to enable the museum community and members of the public to provide input into IMLS's ongoing effort to provide accurate information about currently operating museums throughout the United States.

A copy of the proposed information collection request can be obtained by contacting the individual listed below in the ADDRESSES section of this notice.

DATES: Written comments must be submitted to the office listed in the addressee section below on or before June 7, 2015.

IMLS is particularly interested in comments that help the agency:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Carlos A. Manjarrez, Director, Office of Planning, Research and Evaluation, Institute of Museum and Library Services, 1800 M St. NW., 9th Floor, Washington, DC 20036. Mr. Manjarrez can be reached by Telephone: 202-653-4671, Fax: 202-653-4600, or by email at cmanjarrez@imls.gov, or by teletype (TTY/TDD) for persons with hearing difficulty at 202-653-4614.

SUPPLEMENTARY INFORMATION:

I. Background

The Institute of Museum and Library Services is the primary source of federal support for the Nation's 123,000 libraries and 35,000 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

The intention of the Museum Locator Tool is to support IMLS's ongoing effort to provide accurate information about currently operating museums throughout the United States. While IMLS has collected a wide range of data about museums across the country and has cleaned and enhanced this data over time, the museum locator provides an easy-to-use tool for members of the public interested in accessing museum information and providing input to the list of museums on a voluntary basis. The Museum Locator Tool will provide an opportunity for the public to identify museums via a keyword search or by navigating an easy-to-use map. Members of the public will also be able to provide input by identifying museums in their area that may not be listed or by providing additional information for museums they have identified within the tool. The Museum Locator Tool will include an “Add a Museum” function that allows viewers to enter an institution that is not in the data base and provide: Institution name, street address, city and state, zip code, phone number, URL, and hours of operation. There will also be an “Update a Museum” function that will allow viewers to update the same institution fields: Institution name, street address, city and state, zip code, phone number, URL, and hours of operation.

The Museum Locator Tool is not a statistical collection and the data gathered from this tool will not be used for statistical reporting. Rather, it is provided as a service to members of the public who are interested in accessing current data on US museums and who would like to contribute to an open and ongoing public resource. The tool will provide APIs for developers to access the data in real time and data downloads for people who care to access data from the tool in batch form.

Agency: Institute of Museum and Library Services.

Title: Museum Finder Tool.

OMB Number: To Be Determined.

Frequency: N/A.

Affected Public: The target populations for the tool are museum professionals and members of the public interested in museum services.

Estimated Number of Respondents: 500.

Estimated Average Burden per Response: The burden per respondent is estimated to be an average of 5 minutes based on the size of the input form.

Estimated Total Annual Burden: 42 hours.

Total Annualized capital/startup costs: n/a.

Total Annual costs: To be determined.

Public Comments Invited: Comments submitted in response to this notice will be summarized and/or included in the request for OMB's clearance of this information collection.

FOR FURTHER INFORMATION CONTACT: Carlos A. Manjarrez, Director, Office of Planning, Research and Evaluation, 1800 M St. NW., 9th Floor, Washington, DC 20036.

Mr. Manjarrez can be reached by Telephone: 202-653-4671, Fax: 202-653-4600, or by email at cmanjarrez@imls.gov, or by teletype (TTY/TDD) for persons with hearing difficulty at 202-653-4614.

Dated: April 3, 2015.
Kim Miller,
Management Analyst.

[FR Doc. 2015-08061 Filed 4-7-15; 8:45 am]

BILLING CODE 7036-01-P